DEPARTMENT OF TRANSPORTATION

Federal Motor Carrier Safety Administration

[Docket No. FMCSA-2003-15025]

Notice of Request for Clearance of a New Information Collection: Truck Driver Fatigue Management Survey

AGENCY: Federal Motor Carrier Safety Administration (FMCSA), DOT.

ACTION: Notice and request for comments.

SUMMARY: In accordance with the requirements in section 3506(c)(2)(A) of the Paperwork Reduction Act of 1995, this notice announces the intention of the FMCSA to request the Office of Management and Budget (OMB) to approve a new information collection to query unionized truck drivers who operate commercial motor vehicles (CMVs) on overnight runs. The agency intends to collect information from these truck drivers on such issues as driver physical condition, amount of sleep, use of naps, fatigue coping strategies, hours on duty, hours driving, and nature of job. In addition, a sample of drivers will wear actigraphy watches to monitor and obtain objective measures of their sleep/wake time.

DATES: Comments must be submitted on or before July 29, 2003.

ADDRESSES: All signed, written comments should refer to the docket number that appears in the heading of this document and must be submitted to the Docket Clerk, U.S. DOT Dockets, Room PL-401, 400 Seventh Street, SW., Washington, DC 20590-0001. All comments received will be available for examination at the above address between 10 a.m. to 5 p.m., e.t., Monday through Friday, except Federal holidays. Those desiring notification of receipt of comments must include a self-addressed, stamped postcard or envelope.

Electronic Access

An electronic copy of this document may be downloaded using the Internet at the Office of the Federal Register's Home page at: http://www.nara.gov/fedreg and the Government Printing Office's database at: http://www.access.gpo.gov/nara. For Internet users, all comments received will be available for examination at the universal source location: http://dms.dot.gov. Please follow the instructions on-line for additional information and guidance.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

FOR FURTHER INFORMATION CONTACT: Mr. Robert Carroll, Transportation Specialist, (202) 385-2388, Research Division, Office of Research and Technology, Federal Motor Carrier Safety Administration, 600 Virginia Avenue, SW., Suite 600, Washington, DC 20024. Office hours are from 7:30 a.m. to 5 p.m., e.t., Monday through Friday, except Federal holidays.

SUPPLEMENTARY INFORMATION:

Title: Truck Driver Fatigue Management Survey.

Background: The Senate Report 107-38 (Committee Report), and the House of Representatives Report 107-308 (Conference Report) of the Department of Transportation and Related Agencies Appropriations Bill, 2002 (Pub. L. 107-87) (December 18, 2001), specifically requires the Federal Highway Administration (FHWA), now the FMCSA, to conduct a Truck Drivers' Fatigue Management Survey, within the funds provided, with an organization representing unionized motor carriers in cooperation with their labor organization. The Committee included $400,000 for a study to determine the fatigue management techniques used by truck drivers operating CMVs during overnight runs.

Truck driver fatigue, as well as techniques to manage it, has been a research and regulatory priority in the U.S. and Canada for the last decade. For instance, both U.S. and Canadian drivers participated in the Driver Fatigue and Alertness Study conducted by the FHWA and Transport Canada in the 1990s, as well as the current jointly funded study, the Fatigue Management Technologies Pilot Test. In addition, Transport Canada forwarded a recommended National Safety Code, Standard #9—Hours-of-Service, to the Council of Transportation Ministers in September 2002. Finally, on April 28, 2003, the FMCSA published a revised Hours-of-Service of Drivers Final Rule in the Federal Register (68 FR 22456).

Congress has been particularly interested in the truck driver fatigue issue and has directed the FMCSA to conduct numerous studies—including those mentioned above—on various aspects of the problem. Most recently, in the Senate Appropriations Committee mark-up of the Fiscal year 2002 DOT Appropriations Bill, FMCSA was directed to conduct “a study to determine the fatigue management techniques used by truck drivers during overnight operations with an organization representing unionized motor carriers in cooperation with their labor organization.” In recognition of congressional intent, a Pre-solicitation Notice was published in the Federal Register on July 1, 2002, describing the anticipated sole-source award to the Motor Freight Carriers Association (MFCA), and on September 30, 2002, FMCSA awarded the MFCA a contract to conduct a Truck Driver Fatigue Management Study.

Recent research has underscored the overwhelming influence of time of day on truck driver alertness. But, the same research has shown that there are significant individual differences in alertness during night driving, even when drivers have adequate sleep. Yet, the trucking industry must operate 24 hours a day in order to meet customer demands. In addition, the highways are least congested between midnight and 6 a.m. One segment—the unionized less-than-truckload (LTL)—has a long history of safe operations at night. Indeed, most of its over-the-road operations occur at night. A major reason for the exemplary safety record of MFCA companies is the professionalism of the Teamster's Union drivers they employ—more than 8,000 of the 42,000 drivers have at least one million accident-free driving miles with the same company. This truck driver workforce offers a tremendous untapped source of knowledge about techniques and lifestyle practices that are used to manage fatigue during night operations.

Specifically, the study will randomly survey Teamster drivers in MFCA companies who regularly operate on overnight runs. The survey will collect detailed information on such items as the nature of their job, what helps them cope, what are the challenges, how much and how long they sleep, their physical condition, the use of naps, and the impact of other road users on their alertness. A control group of Teamster drivers without one million accident free driving miles will also be surveyed. A sample of drivers will be studied prospectively using unobtrusive, objective wrist actigraphy watches to confirm the sleep-wake behaviors identified in the survey as being most likely to mitigate fatigue and maintain alertness during nighttime operations.

Respondents: The respondents to the planned survey will include approximately 2,000 selected motor carrier truck drivers of CMVs.

Average Burden Per Response: The estimated average burden per response is 30 minutes. This includes time needed for reading survey instructions, searching existing data sources, completing the survey instrument and returning the information by mail.

Estimated Total Annual Burden: The estimated total annual burden is 1000 hours.

Frequency: The survey will be conducted once.

Public Comments Invited

Interested parties are invited to send comments regarding any aspect of this information collection, including, but not limited to: (1) The necessity and utility of the information collection for the proper performance of the functions of the FMCSA; (2) the accuracy of the estimated burden; (3) ways to enhance the quality, utility, and clarity of the collected information; and (4) ways to minimize the collection burden without reducing the quality of the collected information. Comments submitted in response to this notice will be summarized and/or included in the request for OMB clearance of this information collection.

Authority: 49 U.S.C. 31136, 31301 et seq., and 31502; Pub. L. 107-87, 115 Stat. 833 and 49 CFR 1.73.

Issued on: May 22, 2003.
Annette M. Sandberg,
Acting Administrator.

[FR Doc. 03-13488 Filed 5-29-03; 8:45 am]

BILLING CODE 4910-EX-P